DEPARTMENT OF THE INTERIOR

Fish and Wildlife Service

50 CFR Part 17

RIN 1018-AH02

Endangered and Threatened Wildlife and Plants; Designations of Critical Habitat for Plant Species From the Island of Hawaii, HI

AGENCY: Fish and Wildlife Service, Interior.

ACTION: Proposed rule; extension of comment period and notice of availability of draft economic analysis.

SUMMARY: We, the U.S. Fish and Wildlife Service (Service), announce the availability of the draft economic analysis for the proposed designations of critical habitat for 47 plant species from the island of Hawaii. The comment period for the proposed critical habitat designations originally closed on July 29, 2002. On August 26, 2002, we reopened the comment period and provided notice that the comment period would close on September 30, 2002. On September 24, 2002, we announced two public hearings and extended the comment period to allow all interested parties to submit oral or written comments on the proposal until November 30, 2002. We are now providing notice of another extension of the comment period to allow peer reviewers and all interested parties to comment simultaneously on the proposed rule and the associated draft economic analysis. Over a 10-year period, the draft economic analysis shows a range of total direct costs for both the plant species listings and critical habitat to be estimated at $53.1 million to $71.8 million and some of the indirect costs could be substantially larger. Comments previously submitted need not be resubmitted as they will be incorporated into the public record as part of this extended comment period and will be fully considered in preparation of the final rule.

DATES: We will accept public comments until January 17, 2003.

ADDRESSES: Send your written comments and information to Field Supervisor, U.S. Fish and Wildlife Service, Pacific Islands Office, 300 Ala Moana Blvd., P.O. Box 50088, Honolulu, HI 96850-0001or e-mail your comments to FW1PIE_Hawaii_Island_ Crithab@r1.fws.gov. To obtain a copy of the draft economic analysis, send a written requests to the address listed above, call 808/541-3441, or visit the following Internet site: http://pacificislands.fws.gov. For further instructions on commenting, refer to Public Comments Solicited section of this notice.

FOR FURTHER INFORMATION CONTACT: Paul Henson, Field Supervisor, Pacific Islands Office, at the above address (telephone: 808/541-3441; facsimile: 808/541-3470).

SUPPLEMENTARY INFORMATION:

Background

On May 28, 2002, we published in the Federal Register (67 FR 36968) a proposed rule to propose critical habitat for 47 of the 58 plant species known historically from the island of Hawaii that are listed under the Endangered Species Act of 1973, as amended (Act) (16 U.S.C. 1531 et seq.), known historically from the island of Hawaii.

A total of 58 species historically found on the island of Hawaii were listed as endangered or threatened species under the Act between 1991 and 1996. Some of these species may also occur on other Hawaiian islands. In previously published proposals, we proposed that critical habitat was prudent for 31 (Achyranthes mutica, Adenophorus periens, Asplenium fragile var. insulare, Bonamia menziesii, Cenchrus agrimonioides, Clermontia lindseyana, Clermontia peleana, Colubrina oppositifolia, Ctenitis squamigera, Delissea undulata, Diellia erecta, Flueggea neowawraea, Gouania vitifolia, Hedyotis cookiana, Hedyotis coriacea, Hibiscus brackenridgei, Ischaemum byrone, Isodendrion pyrifolium, Mariscus fauriei, Mariscus pennatiformis, Phlegmariurus mannii, Phyllostegia parviflora, Plantago princeps, Portulaca sclerocarpa, Sesbania tomentosa, Silene lanceolata, Solanum incompletum, Spermolepis hawaiiensis, Tetramolopium arenarium, Vigna o-wahuensis, and Zanthoxylum hawaiiense) of the 58 species reported from the island of Hawaii. No change is made to the 31 proposed prudency determinations in the May 28, 2002, proposed rule for plants from Hawaii. In addition, in the May 28, 2002, proposal we proposed that designation of critical habitat was not prudent for two species of loulu palm, Pritchardia affinis and Pritchardia schattaueri, because it would likely increase the threat from vandalism or collection of these species on the island of Hawaii. We also proposed that critical habitat designation was not prudent for two species, Cyanea copelandii ssp. copelandii and Ochrosia kilaueaensis, known only from the island of Hawaii, because these species have not been seen in the wild since 1957 and 1927, respectively, and no viable genetic material is known to exist. We further proposed that designation of critical habitat is prudent for 23 species (Argyroxiphium kauense, Clermontia drepanomorpha, Clermontia pyrularia, Cyanea hamatiflora ssp. carlsonii, Cyanea platyphylla, Cyanea shipmanii, Cyanea stictophylla, Cyrtandra giffardii, Cyrtandra tintinnabula, Hibiscadelphus giffardianus, Hibiscadelphus hualalaiensis, Isodendrion hosakae, Melicope zahlbruckneri, Neraudia ovata, Nothocestrum breviflorum, Phyllostegia racemosa, Phyllostegia velutina, Phyllostegia warshaueri, Plantago hawaiensis, Pleomele hawaiiensis, Sicyos alba, Silene hawaiiensis, and Zanthoxylum dipetalum var. tomentosum) for which prudency determinations had not been made previously.

We also proposed designation of critical habitat for 47 plant species (Achyranthes mutica, Adenophorus periens, Argyroxiphium kauense, Asplenium fragile var. insulare, Bonamia menziesii, Clermontia drepanomorpha, Clermontia lindseyana, Clermontia peleana, Clermontia pyrularia, Colubrina oppositifolia, Cyanea hamatiflora ssp. carlsonii, Cyanea platyphylla, Cyanea shipmanii, Cyanea stictophylla, Cyrtandra giffardii, Cyrtandra tintinnabula, Delissea undulata, Diellia erecta, Flueggea neowawraea, Gouania vitifolia, Hedyotis coriacea, Hibiscadelphus giffardianus, Hibiscadelphus hualalaiensis, Hibiscus brackenridgei, Ischaemum byrone, Isodendrion hosakae, Isodendrion pyrifolium, Mariscus fauriei, Melicope zahlbruckneri, Neraudia ovata, Nothocestrum breviflorum, Phyllostegia racemosa, Phyllostegia velutina, Phyllostegia warshaueri, Plantago hawaiensis, Pleomele hawaiiensis, Portulaca sclerocarpa, Sesbania tomentosa, Sicyos alba, Silene hawaiiensis, Silene lanceolata, Solanum incompletum, Spermolepis hawaiiensis, Tetramolopium arenarium, Vigna o-wahuensis, Zanthoxylum dipetalum var. tomentosum, and Zanthoxylum hawaiiense). We did not propose critical habitat for 4 (Cyanea copelandii ssp. copelandii, Ochrosia kilaueaensis, Pritchardia affinis, and Pritchardia schattaueri) of the 58 species for the reasons given above, and we did not propose critical habitat for 7 species (Cenchrus agrimonioides, Ctenitis squamigera, Hedyotis cookiana, Mariscus pennatiformis, Phlegmariurus mannii, Phyllostegia parviflora, and Plantago princeps) which no longer occur on the island of Hawaii and for which we are unable to determine any habitat that is essential to their conservation on the island of Hawaii.

Twenty-eight critical habitat units, totaling approximately 176,968 hectares (437,285 acres), are proposed for designation for 47 plant species on the island of Hawaii. For locations of these proposed units, please consult the proposed rule was published May 28, 2002.

Critical habitat receives protection from destruction or adverse modification through required consultation under section 7 of the Act (16 U.S.C. 1531 et seq.) with regard to actions carried out, funded, or authorized by a Federal agency. Section 4(b)(2) of the Act requires that the Secretary shall designate or revise critical habitat based upon the best scientific and commercial data available, and after taking into consideration the economic impact of specifying any particular area as critical habitat. We have prepared a draft economic analysis of the proposed critical habitat designation. The draft economic analysis is available on the Internet and from the mailing address listed below in the Public Comments Solicited section.

The public comment period for the May 28, 2002, proposal (67 FR 36968) originally closed on July 29, 2002. On August 26, 2002, we published in the Federal Register (67 FR 54766) a notice reopening the comment period for the proposed designations and non-designations of critical habitat for plant species on the island of Hawaii, as well as for the proposed designations and non-designations of critical habitat for plant species on the islands of Kauai, Niihau, Molokai, Maui, Kahoolawe, Oahu, and the Northwestern Hawaiian Islands, and we announced that the comment period would close on September 30, 2002. On September 24, 2002, we announced two public hearings and extended the comment period to allow all interested parties to submit oral or written comments on the proposal until November 30, 2002 (67 FR 59811). We are now announcing the availability of the draft economic analysis and another extension of the comment period for the proposed designations and non-designations of critical habitat for plant species on the island of Hawaii. Over a 10-year period, the draft economic analysis shows a range of total direct costs for both the plant species listings and critical habitat to be estimated at $53.1 million to $71.8 million and some of the indirect costs could be substantially larger. However, many of the indirect costs shown in the analysis result from uncertain and possibly unlikely future private and governmental actions, and we expressly request comments as to the likelihood of these actions occurring and of the indicated costs from these possible actions being incurred. We will accept public comments on the proposal and the associated draft economic analysis for the island of Hawaii until the date specified above in DATES. The extension of the comment period gives all interested parties the opportunity to comment on the proposal and the associated draft economic analysis for the island of Hawaii. Comments already submitted on the proposed designations and non-designations of critical habitat for plant species from the island of Hawaii need not be resubmitted as they will be fully considered in the final determinations.

Public Comments Solicited

If you wish to provide written comments, you may submit your comments and materials concerning this proposal by any of several methods:

(1) You may submit written comments and information to the Field Supervisor, U.S. Fish and Wildlife Service, Pacific Islands Office, 300 Ala Moana Blvd., P.O. Box 50088, Honolulu, HI 96850-0001.

(2) You may send comments by electronic mail (e-mail) to: FW1PIE_Hawaii_ Island_Crithab@r1.fws.gov. If you submit comments by e-mail, please submit them as an ASCII file and avoid the use of special characters and any form of encryption. Please also include “Attn: RIN 1018-AH02” and your name and return address in your e-mail message. If you do not receive a confirmation from the system that we have received your e-mail message, contact us directly by calling our Honolulu Fish and Wildlife Office at telephone number 808/541-3441.

(3) You may hand-deliver comments to our Honolulu Fish and Wildlife Office at the address given above under (1).

Comments and materials received, as well as supporting documentation used in preparation of the proposal to designate critical habitat, will be available for inspection, by appointment, during normal business hours at the address under (1) above.

Copies of the draft economic analysis are available on the Internet at http://pacificislands.fws.gov or by request from the Field Supervisor at the address and phone number listed in ADDRESSES.

Author

The primary author of this document is Michelle Mansker (see ADDRESSES section).

Authority: The authority for this action is the Endangered Species Act of 1973 (16 U.S.C. 1531 et seq.).

Dated: December 11, 2002.
Craig Manson,
Assistant Secretary for Fish and Wildlife and Parks.

[FR Doc. 02-31876 Filed 12-17-02; 8:45 am]

BILLING CODE 4310-55-P